Title 3—

The President

Proclamation 9015 of September 10, 2013

Patriot Day and National Day of Service and Remembrance, 2013

By the President of the United States of America

A Proclamation

Twelve years ago this month, nearly three thousand innocent men, women, and children lost their lives in attacks meant to terrorize our Nation. They had been going about their day, harming no one, when sudden violence struck. We will never undo the pain and injustice borne that terrible morning, nor will we ever forget those we lost.

On September 11, 2001, amid shattered glass, twisted steel, and clouds of dust, the spirit of America shone through. We remember the sacrifice of strangers and first responders who rushed into darkness to carry others from danger. We remember the unbreakable bonds of unity we felt in the long days that followed—how we held each other, how we came to our neighbors' aid, how we prayed for one another. We recall how Americans of every station joined together to support the survivors in their hour of need and to heal our Nation in the years that followed.

Today, we can honor those we lost by building a Nation worthy of their memories. Let us also live up to the selfless example of the heroes who gave of themselves in the face of such great evil. As we mark the anniversary of September 11, I invite all Americans to observe a National Day of Service and Remembrance by uniting in the same extraordinary way we came together after the attacks. Like the Americans who chose compassion when confronted with cruelty, we can show our love for one another by devoting our time and talents to those in need. I encourage all Americans to visit www.Serve.gov, or www.Servir.gov for Spanish speakers, to find ways to get involved in their communities.

As we serve and remember, we reaffirm our ties to one another. On September 11, 2001, no matter where we came from, what God we prayed to, or what race or ethnicity we were, we were united as one American family. May the same be said of us today, and always.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, BARACK OBAMA, President of the United States of America, do hereby proclaim September 11, 2013, as Patriot Day and National Day of Service and Remembrance. I call upon all departments, agencies, and instrumentalities of the United States to display the flag of the United States at half-staff on Patriot Day and National Day of Service and Remembrance in honor of the individuals who lost their lives on September 11, 2001. I invite the Governors of the United States and the Commonwealth of Puerto Rico and interested organizations and individuals to join in this observance. I call upon the people of the United States to participate in community service in honor of those our Nation lost, to observe this day with appropriate ceremonies and activities, including remembrance services, and to observe a moment of silence beginning at 8:46 a.m. Eastern Daylight Time to honor the innocent victims who perished as a result of the terrorist attacks of September 11, 2001.

IN WITNESS WHEREOF, I have hereunto set my hand this tenth day of September, in the year of our Lord two thousand thirteen, and of the Independence of the United States of America the two hundred and thirty-eighth.

[FR Doc. 2013-22521

Filed 9-12-13; 11:15 am]

Billing code 3295-F3